DEPARTMENT OF STATE

[Public Notice: 9763]

Defense Trade Advisory Group; Notice of Open Meeting

SUMMARY: The Defense Trade Advisory Group (DTAG) will meet in open session from 1:00 p.m. until 5:00 p.m. on Tuesday, November 15, 2016 at 1777 F Street NW., Washington, DC 20006. Entry and registration will begin at 12:30 p.m. The membership of this advisory committee consists of private sector defense trade representatives, appointed by the Assistant Secretary of State for Political-Military Affairs, who advise the Department on policies, regulations, and technical issues affecting defense trade. The purpose of the meeting will be to discuss current defense trade issues and topics for further study.

FOR FURTHER INFORMATION CONTACT: For additional information, contact Ms. Glennis Gross-Peyton, PM/DDTC, SA-1, 12th Floor, Directorate of Defense Trade Controls, Bureau of Political-Military Affairs, U.S. Department of State, Washington, DC 20522-0112; telephone (202) 663-2862; FAX (202) 261-8199; or email DTAG@state.gov.

SUPPLEMENTARY INFORMATION: The following agenda topics will be discussed: (1) Review past DTAG reports on issues previously examined and identify those issues/reports that remain relevant, warrant further DTAG review/update, and should be considered by DDTC for implementation; (2) Identify and recommend to DDTC new issues for DTAG to review; (3) Organize all (past and new) issues into a list of priorities for DTAG action and DDTC consideration.

Members of the public may attend this open session and will be permitted to participate in the discussion in accordance with the Chair's instructions. Members of the public may, if they wish, submit a brief statement to the committee in writing.

As seating is limited to 125 persons, those wishing to attend the meeting must notify the DTAG Alternate Designated Federal Officer (DFO) by COB Friday, November 4, 2016. Members of the public requesting reasonable accommodation must also notify the DTAG Alternate DFO by that date. If notified after this date, the Department will be unable to accommodate requests due to requirements at the meeting location. Each non-member observer or DTAG member that wishes to attend this plenary session should provide: His/her name and identifying data such as driver's license number, U.S. Government ID, or U.S. Military ID, to the DTAG Alternate DFO, Lisa Aguirre, via email at DTAG@state.gov. One of the following forms of valid photo identification will be required for admission to the meeting: U.S. driver's license, passport, U.S. Government ID or other valid photo ID.

Dated: October 5, 2016.
Lisa V. Aguirre,
Alternate Designated Federal Officer, Defense Trade Advisory Group, Department of State.

[FR Doc. 2016-25305 Filed 10-18-16; 8:45 am]

BILLING CODE 4710-25-P